DEPARTMENT OF ENERGY

Federal Energy Regulatory Commission

Combined Notice of Filings

Take notice that the Commission has received the following Natural Gas Pipeline Rate and Refund Report filings:

Filings Instituting Proceedings

Docket Numbers: RP13-895-000.

Applicants: Texas Gas Transmission, LLC.

Description: Amendment to Neg Rate Agmt (Cross Timbers 31116-2) to be effective 5/8/2013.

Filed Date: 5/8/13.

Accession Number: 20130508-5055.

Comments Due: 5 p.m. ET 5/20/13.

Docket Numbers: RP13-896-000.

Applicants: Gulf South Pipeline Company, LP.

Description: Amendments to Neg Rate Agmt (FP&L 40097-1, 2) to be effective 4/1/2013.

Filed Date: 5/8/13.

Accession Number: 20130508-5097.

Comments Due: 5 p.m. ET 5/20/13.

Docket Numbers: RP13-897-000.

Applicants: Saltville Gas Storage Company L.L.C.

Description: Negotiated Rate Clean-up Filing to be effective 6/10/2013.

Filed Date: 5/9/13.

Accession Number: 20130509-5031.

Comments Due: 5 p.m. ET 5/21/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-118-003.

Applicants: Columbia Gulf Transmission, LLC.

Description: NAESB Waiver Removal to be effective 12/1/2012.

Filed Date: 5/8/13.

Accession Number: 20130508-5076.

Comments Due: 5 p.m. ET 5/20/13.

Docket Numbers: RP13-124-004.

Applicants: Hardy Storage Company, LLC.

Description: NAESB Waiver Removal to be effective 12/1/2012.

Filed Date: 5/9/13.

Accession Number: 20130509-5010.

Comments Due: 5 p.m. ET 5/21/13.

Docket Numbers: RP13-784-001.

Applicants: Elba Express Company, L.L.C.

Description: Negotiated Rate Compliance Filing to be effective 4/1/2013.

Filed Date: 5/10/13.

Accession Number: 20130510-5023.

Comments Due: 5 p.m. ET 5/22/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 10, 2013.
Nathaniel J. Davis, Sr.
Deputy Secretary

[FR Doc. 2013-11807 Filed 5-16-13; 8:45 am]

BILLING CODE 6717-01-P